DEPARTMENT OF HOMELAND SECURITY

[Docket No. DHS-2007-0086]

Homeland Security Advisory Council

AGENCY: Policy Directorate, DHS.

ACTION: Notice of partially closed Federal Advisory Committee Meeting.

SUMMARY: The Homeland Security Advisory Council (HSAC) will meet for purposes of reviewing recommendations from the Administration Transition Task Force and HSAC subgroups. In addition, the HSAC will receive briefings from Secretary Michael Chertoff and other DHS officials. The meeting will be partially closed.

DATES: Thursday, January 10, 2008. The open session will run from 10:55 am to 12:30 pm. The closed portions of the meeting will be held in the Seminar Room, from 8:30 a.m. to 10:55 a.m., and from 12:30 p.m. to 3:30 p.m.

ADDRESSES: The open portion of the meeting will be held at the U.S. Secret Service building located at 950 H Street, NW., Washington, DC, in the William P. Wood Conference Center.

If you desire to submit written comments, they must be submitted by January 3, 2008. Comments must be identified by DHS-2007-0086 and may be submitted by one of the following methods:

• Federal eRulemaking Portal: http://www.regulations.gov. Follow the instructions for submitting comments.

• E-mail: HSAC@dhs.gov. Include docket number in the subject line of the message.

• Fax: (202) 282-9207.

• Mail: Ms. Jennifer Myers, Homeland Security Advisory Council, Department of Homeland Security, Mailstop 0850, 245 Murray Lane, SW., Washington, DC 20528.

Instructions: All submissions received must include the words “Department of Homeland Security” and DHS-2007-0086, the docket number for this action. Comments received will be posted without alteration at http://www.regulations.gov, including any personal information provided.

Docket: For access to the docket to read background documents or comments received by the DHS Homeland Security Advisory Council, go to http://www.regulations.gov.

FOR FURTHER INFORMATION CONTACT: Jennifer Myers, Homeland Security Advisory Council, Washington, DC 20528, (202) 447-3135, HSAC@dhs.gov.

SUPPLEMENTARY INFORMATION: Notice of this meeting is given under the Federal Advisory Committee Act, 5 U.S.C. App. (Pub. L. 92-463). The HSAC exists to provide independent advice to the Secretary of the Department aiding in the creation of expeditious implementation of critical and actionable policy and operational capacities across the spectrum of homeland security operations. The HSAC shall periodically report, as appropriate, to the Secretary on matters within the scope of that function. The HSAC serves as an advisory body with the goal of providing advice upon the request of the Secretary.

The HSAC will meet to review recommendations from the Administration Transition Task Force (ATTF) and other HSAC subgroups. The ATTF has focused on identifying issues and priorities for DHS and relevant partners to address to effectively plan for the transition in administrations. In addition, recommendations from the HSAC's other subgroups are expected on the following topics: medical surge capabilities, Real-ID implementation, DHS training and education efforts, and private sector and state and local information sharing efforts. The Essential Technology Task Force will update the HSAC on its progress and planned activities but will not report recommendations at this meeting.

During the open portion of the meeting, the HSAC will consider the recommendations from its various subgroups as outlined above.

Public Attendance: A limited number of members of the public may register to attend the public session on a first-come, first-served basis per the procedures that follow. Security requires that any member of the public who wishes to attend the public session provide his or her full legal name, date of birth, and Social Security Number no later than 5 p.m. EST., January 3, 2008, to Jennifer Myers or a staff member of the HSAC via e-mail at HSAC@dhs.gov or via phone at (202) 447-3135. Photo identification will be required for entry into the public session, and everyone in attendance must be present and seated by 10:45 a.m.

Information on Services for Individuals With Disabilities: For information on facilities or services for individuals with disabilities, or to request special assistance at the meeting, contact Kezia Williams as soon as possible.

Basis for Closure: The Federal Advisory Committee Act permits the closure of advisory committee meetings, or portions thereof, as a matter of public interest subject to the requirements of the Government in the Sunshine Act (5 U.S.C., 552b(c)). At this meeting, the HSAC will participate in sensitive discussions with senior officials regarding priorities and ongoing initiatives in the Department.

Pursuant to 5 U.S.C. 552b(c)(9)(B), the nature of discussions could lead to premature disclosure of information on Department of Homeland Security actions that would be “likely to significantly frustrate implementation of proposed agency action.” Additionally, discussions of ongoing investigations with Department of Homeland Security enforcement components and outside law enforcement partners fall within the meaning of 5 U.S.C. 552b(c)(7)(E) insofar as they will disclose investigative techniques and procedures.

Closed portions of the meeting will include discussions on general administrative updates, ethics requirements for advisory committee members, updates on operational challenges, intelligence briefing, and pre-decisional policy decisions. During the closed portions of the meeting, various speakers from Customs and Border Protection, United States Secret Service, Intelligence and Analysis, Policy Directorate, Management Directorate, and the Transportation Security Administration will discuss planning efforts for the transition in administrations, potential changes to airport security, border security, potential areas to focus the Quadrennial Homeland Security Review, and the challenges faced by the United States Secret Service in a presidential election year. The discussion will involve discussions of law enforcement and airport security procedures of Department of Homeland Security components. The nature of the discussions could lead to premature disclosure of information on Department of Homeland Security actions that would be “likely to significantly frustrate implementation of a proposed agency action.” Additionally, discussions of ongoing investigations with Department of Homeland Security enforcement components and outside law enforcement partners fall within the meaning of 5 U.S.C. 552b(c)(7)(E) insofar as they will “disclose investigative techniques and procedures.”

Dated: December 14, 2007.
Doug Hoelscher,
Executive Director, Homeland Security Advisory Committees.

[FR Doc. E7-24902 Filed 12-21-07; 8:45 am]

BILLING CODE 4410-10-P